COMMITTEE FOR THE IMPLEMENTATION OF TEXTILE AGREEMENTS

Entry of Shipments of Wool and Man-Made Fiber Textiles and Apparel in Excess of 2005 Agreement Limits

December 21, 2005.

AGENCY: The Committee for the Implementation of Textile Agreements (the Committee).

ACTION: Directive to Commissioner, Customs and Border Protection.

FOR FURTHER INFORMATION CONTACT: Ross Arnold, International Trade Specialist, Office of Textiles and Apparel, U.S. Department of Commerce, (202) 482-3400.

SUPPLEMENTARY INFORMATION:

Authority: Executive Order 11651 of March 3, 1972, as amended; Section 204 of the Agricultural Act of 1956, as amended (7 U.S.C. 1854).

In the letter to the Commissioner of U.S. Customs and Border Protection published below, U.S. Customs and Border Protection is directed to implement staged entry limits for Belarus for shipments in excess of 2005 agreement limits.

CITA has previously established a policy of only allowing entry of shipments in excess of quota limits once a new quota year has begun, and there is an agreement with the exporting country that allows overshipments to be charged to the subsequent year's quotas. In a Federal Register Notice published on June 25, 2004, CITA announced that it had come to CITA's attention that some textile and apparel products may be shipped in excess of agreed quota limits in 2004 with the expectation that those shipments will be allowed entry upon the expiration of the limits, and CITA noted that shipments exported in excess of agreed limits are a violation of the terms of those agreements. (69 FR 35586) In that Notice, CITA expressly reserved the right to deny entry to goods that have been shipped in excess of agreed limits or to stage entry for goods exported in excess of agreed limits. In the absence of an arrangement with Belarus to allow the entry in 2006 of overshipments of the 2005 textile agreement limits, to be charged to 2006 quota limits, and until such time as such an arrangement is agreed upon, shipments in excess of the 2005 limits for imports of textile products from Belarus will be subject to delayed and staged entry.

For all shipments exported in 2005 that exceed the applicable 2005 agreed quota limits from Belarus, entry will not be permitted until February 1, 2006. From February 1 through February 28, 2006, entry will be permitted to goods in an amount equal to 5 percent of the applicable 2005 base quota limit. For each succeeding month, beginning on the first day of the month and extending through the last day of the month, entry will be permitted to goods in an amount equal to 5 percent of the applicable base 2005 quota limit, until all shipments in excess of the quota limits have been entered.

The 5 percent staged entry limits described above are published in the following letter to the Commissioner of U.S. Customs and Border Protection.

James C. Leonard III,
Chairman, Committee for the Implementation of Textile Agreements.

Committee for the Implementation of Textile Agreements

December 21, 2005.

Commissioner,

Bureau of Customs and Border Protection, Washington, DC 20229.

Dear Commissioner: This directive provides instructions on permitting entry to goods shipped in excess of 2005 quota limits for Belarus.

For all shipments exported in 2005 that exceed the applicable 2005 agreed quota limits for Belarus, you are directed to deny entry until February 1, 2006, subject to the following procedure. From February 1 through February 28, 2006, you are directed to permit entry to goods in an amount equal to 5 percent of the applicable 2005 base quota limit. For each succeeding month, beginning on the first day of the month and extending through the last day of the month, you are directed to permit entry to goods in an amount equal to 5 percent of the applicable base 2005 quota limit, until all shipments in excess of the quota limits have been entered.

The monthly 5 percent staged entry limits described above are listed below:

Category | 5 percent of 2005 base limit
435 | 3,433 dozen.
448 | 1,769 dozen.
622 | 511,238 square meters.
(622-L) ¹ | 84,270 square meters.
(622-N) ² | 32,400 square meters.
¹ Category 622-L: only HTS numbers 7019.51.9010, 7019.52.4010, 7019.52.9010, 7019.59.4010, and 7019.59.9010.
² Category 622-N: only HTS numbers 7019.52.40.21, 7019.52.90.21, 7019.59.40.21, 7019.59.90.21.

The Committee for the Implementation of Textile Agreements has determined that this action falls within the foreign affairs exception to the rulemaking provisions of 5 U.S.C. 553(a)(1).

Sincerely,

James C. Leonard III,

Chairman, Committee for the Implementation of Textile Agreements.

[FR Doc. E5-7947 Filed 12-27-05; 8:45 am]

BILLING CODE 3510-DS-S